ENVIRONMENTAL PROTECTION AGENCY

[ER-FRL-9035-3]

Environmental Impact Statements; Notice of Availability

Responsible Agency: Office of Federal Activities, General Information (202) 564-7146 or http://www2.epa.gov/nepa/.

Weekly receipt of Environmental Impact Statements (EIS)

Filed 09/11/2017 Through 09/15/2017

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20170178, Draft Supplement, USACE, NM, Middle Rio Grande Flood Protection Bernalillo to Belen, New Mexico: Mountain View, Isleta and Belen Units Integrated General Reevaluation Report and Supplemental Environmental Impact Statement, Comment Period Ends:11/06/2017, Contact: Michael D. Porter 505-342-3264.

EIS No. 20170179, Draft, USFS, CA, Craggy Vegetation Management, Comment Period Ends: 11/06/2017, Contact: Andrew Mueller 530-468-1223.

EIS No. 20170180, Final, USFS, CA, Trinity Post Fire Hazard Reduction and Salvage, Review Period Ends:10/30/2017, Contact: Thomas Hall 530-628-1200.

EIS No. 20170181, Revised Draft, USACE, WA, Mount St. Helens Long-Term Sediment Management Plan, Comment Period Ends: 11/06/2017, Contact: Ann Hodgson 503-808-4663.

EIS No. 20170182, Final, USACE, OK, ADOPTION—Plains and Eastern Clean Line Transmission Line Project, Review Period, Contact: David Gade 918-669-7579. The U.S. Army Corps of Engineers—Tulsa District, District Commander Christopher A. Hussin, adopts the Department of Energy's Final Environmental Impact Statement for the Plains & Eastern Clean Line Transmission Line Project (Final EIS #182396 [DOE/EIS/0486]) filed with the USEPA on 11/13/2015. As the USACE was a cooperating agency, recirculation of the document (EIS) is not necessary under 40 CFR 1506.3(c).

EIS No. 20170183, Final, EPA, Other, ADOPTION—Gulf of Mexico OCS Oil and Gas 2017-2022 Final Multisale EIS, Review Period, Contact: Keith Hayden 214-665-2133. The U.S. Environmental Protection Agency (EPA) has adopted the Bureau of Ocean and Energy Management's (BOEM) Gulf of Mexico Outer Continental Shelf (OCS) Oil and Gas 2017-2022 Final Multisale Environmental Impact Statement (EIS), Council of Environmental Quality (CEQ) No. 20170030. BOEM filed its Final EIS with EPA on March 10, 2017, (82 FR 13338). EPA was a cooperating agency on the project and recirculation of the document is not necessary under Section 1506.3(c) of the CEQ National Environmental Policy Act (NEPA) Regulations.

Amended Notices

EIS No. 20170137, Draft Supplement, Caltrans, CA, I-710 Corridor Project, Comment Period Ends: 10/23/2017, Contact: Jason Roach 213-897-0357. Revision to FR Notice Published07/28/2017; Extending Comment Period from 09/22/2017 to 10/23/2017.

EIS No. 20170152, Draft, BR, CA, WITHDRAWN—San Luis Low Point Improvement Project, Comment Period Ends: 09/25/2017, Contact: Nicole Johnson 916-978-5085. Revision to FR Notice Published08/11/2017; Officially Withdrawn per request of the submitting agency.

EIS No. 20170162, Draft Supplement, USFWS, MT, Proposed Amendment to the Endangered Species Act 10(a)(1)(B) Permit Associated with the Montana Department of Natural Resources and Conservation Forested State Trust Lands Habitat Conservation Plan, Comment Period Ends: 10/13/2017, Contact: Amelia Orton-Palmer 303-236-4211. Revision to FR Notice Published08/25/2017; Correction to Comment Period from 10/09/2017 to10/13/2017.

EIS No. 20170169, Draft, USACE, AK, Nanushuk Project, Comment Period Ends: 11/14/2017, Contact: Ellen Lyons 907-474-2169. Revision to FR Notice Published 09/01/2017; Extending Comment Period from10/16/2017 to 11/14/2017.

EIS No. 20170170, Draft, USACE, TX, Houston Ship Channel Expansion Channel Improvement Project, Comment Period Ends: 11/13/2017, Contact: Kelly Burks-Copes 409-766-3044. Revision to FR Notice Published 09/01/2017; Extending Comment Period from 10/16/2017 to11/13/2017.

EIS No. 20170177, Draft, USFS, SD, Black Hills Resilient Landscapes Project, Comment Period Ends: 10/30/2017, Contact: Anne Davy 406-273-1836. Revision to FR Notice Published 09/15/2017; Correcting Lead Agency from AFS to USFS.

Dated: September 19, 2017.
Kelly Knight,
Director, NEPA Compliance Division, Office of Federal Activities.

[FR Doc. 2017-20282 Filed 9-21-17; 8:45 am]

BILLING CODE 6560-50-P